DEPARTMENT OF COMMERCE

National Oceanic and Atmospheric Administration

50 CFR Part 660

[I.D. 082800F]

RIN 0648-AO31

Fisheries off West Coast States and in the Western Pacific; Pacific Coast Groundfish Fishery; Amendment 12

AGENCY: National Marine Fisheries Service (NMFS), National Oceanic and Atmospheric Administration (NOAA), Commerce.

ACTION: Notice of availability of an amendment to a fishery management plan; request for comments.

SUMMARY: NMFS announces that the Pacific Fishery Management Council (Council) has submitted Amendment 12 to the Pacific Coast Groundfish Fishery Management Plan (FMP) for Secretarial review. Amendment 12 is intended to provide procedures for the Pacific Fishery Management Council (Council) to develop rebuilding plans for overfished species, to set guidelines for rebuilding plan contents, and to provide rebuilding plans for NMFS review and approval/disapproval. Amendment 12 would also declare all Pacific coast groundfish to be fully utilized by domestic harvesters and processors.

DATES: Comments on Amendment 12 must be received on or before November 7, 2000.

ADDRESSES: Comments on Amendment 12 or supporting documents should be sent to William Stelle, Jr., Administrator, Northwest Region, NMFS, Sand Point Way NE, BIN C15700, Seattle, WA 98115-0070; or to Rebecca Lent, Administrator, Southwest Region, NMFS, 501 West Ocean Boulevard, Suite 4200, Long Beach, CA 90802-4213.

Copies of Amendment 12 and the Environmental Assessment/ Regulatory Impact Review are available from Donald McIsaac, Executive Director, Pacific Fishery Management Council, 2130 SW Fifth Ave., Suite 224, Portland, OR 97201.

FOR FURTHER INFORMATION CONTACT: Yvonne deReynier at 206-526-6140, Svein Fougner at 562-980-4000, or the Pacific Fishery Management Council at 503-326-6352.

SUPPLEMENTARY INFORMATION: The Magnuson-Stevens Fishery Conservation and Management Act (Magnuson-Stevens Act) requires that each regional fishery management council submit any new FMP or plan amendment it prepares to NMFS for review and approval, disapproval, or partial approval. The Magnuson-Stevens Act also requires that NMFS, upon receiving an FMP or amendment, immediately publish a notification in the Federal Register that the FMP or amendment is available for public review and comment. NMFS will consider the public comments received during the comment period described here in determining whether to approve the FMP or amendment.

In 1998, the Council adopted Amendment 11 to the FMP to make the FMP consistent with revisions to the Magnuson-Stevens Act. Among other things, Amendment 11 set control rules to define rates of “overfishing,” and set defined levels at which managed stocks are considered “overfished.” Amendment 11 was approved and incorporated into the FMP in March 1999.

While implementing Amendment 11 provisions for rebuilding overfished stocks, the Council determined that it needed to set procedures within the groundfish FMP for developing overfished species rebuilding plans and for providing NMFS with the opportunity to review and approve/disapprove those plans. Amendment 12 provides for a process in which the Council will develop overfished species rebuilding plans during its annual specifications and management measures process.

During the Council's two-meeting process for setting annual specifications and management measures (usually September and November) the Council will make overfished species rebuilding plans available for public review, and will incorporate measures to implement those plans within the annual specifications and management measures. Rebuilding plan contents are defined in the FMP and rely upon the Council's annual stock assessment and review process. Once the Council approves a new rebuilding plan, it will submit that plan for NMFS review and approval/disapproval generally at the same time that it submits its annual specifications package for review and approval/disapproval. This process will ensure that rebuilding efforts are incorporated into fishery management measures as quickly and efficiently as practicable, and that they are consistent with management measures for other groundfish species

Public comments on Amendment 12 must be received by November 7, 2000, to be considered by NMFS in the decision whether to approve Amendment 12. A proposed rule to implement Amendment 12 has been submitted for Secretarial review and approval. NMFS expects to publish and request public comment on the proposed regulations to implement Amendment 12 in the near future.

Authority: 16 U.S.C. 1801 et seq.

Dated: September 1, 2000.
Richard W. Surdi,
Acting Director, Office of Sustainable Fisheries, National Marine Fisheries Service.

[FR Doc. 00-23131 Filed 9-7-00; 8:45 am]

BILLING CODE: 3510-22-S